DEPARTMENT OF AGRICULTURE

Animal and Plant Health Inspection Service

[Docket No. APHIS-2009-0088]

Notice of Determination of the High Pathogenic Avian Influenza Subtype H5N1 Status of Czech Republic and Sweden

AGENCY: Animal and Plant Health Inspection Service, USDA.

ACTION: Notice.

SUMMARY: We are advising the public of our determination regarding the highly pathogenic avian influenza (HPAI) subtype H5N1 status of the Czech Republic and Sweden, following outbreaks of HPAI in Sweden during 2006 and in the Czech Republic during 2007. Based on an evaluation of the animal health status of the Czech Republic and Sweden, which we made available to the public for review and comment through a previous notice, the Administrator has determined that the importation of live birds, poultry carcasses, parts or products of poultry carcasses, and eggs (other than hatching eggs) of poultry, game birds, and other birds from the Czech Republic and Sweden presents a low risk of introducing HPAI H5N1 into the United States.

DATES: Effective Date: This determination is effective November 10, 2010.

FOR FURTHER INFORMATION CONTACT: Dr. Julia Punderson, Senior Staff Veterinarian, Regionalization Evaluation Services-Import, National Center for Import and Export, VS, APHIS, 4700 River Road Unit 38, Riverdale, MD 20737-1231; (301) 734-4356.

SUPPLEMENTARY INFORMATION:

Background

On April 6, 2010, we published in the Federal Register (75 FR 17368-17370, Docket No. APHIS-2009-0088) a notice ¹ in which we announced the availability, for review and comment, of an evaluation of the animal health status of the Czech Republic and Sweden relative to highly pathogenic avian influenza (HPAI) subtype H5N1. In the evaluation, titled “APHIS Evaluation of the Status of High Pathogenicity Avian Influenza H5N1 (HPAI H5N1) in the Czech Republic and Sweden” (July 2009), we presented the results of our evaluation of the status of HPAI H5N1 in domestic and wild poultry in the Czech Republic and Sweden, in light of the actions taken by the Czech and Swedish animal health authorities since the outbreaks in 2006 and 2007.

¹ To view the notice and the evaluation, go to http://www.regulations.gov/fdmspublic/component/main?main=DocketDetail&d=APHIS-2009-0088.

Our evaluation concluded that the Czech Republic and Sweden were able to effectively control and eradicate HPAI H5N1 in their domestic poultry populations and that animal health authorities have adequate control measures in place to rapidly identify, control, and eradicate the disease should it be reintroduced into the Czech Republic's or Sweden's wild birds or domestic poultry population.

In our April 2010 notice, we stated that if after the close of the comment period we could identify no additional risk factors that would indicate that domestic poultry in the Czech Republic and Sweden continue to be affected with HPAI H5N1, we would conclude that the importation of live birds, poultry carcasses, parts of carcasses, and eggs (other than hatching eggs) of poultry, game birds, or other birds from the Czech Republic and Sweden presents a low risk of introducing HPAI H5N1 into the United States.

We solicited comments on the evaluation for 30 days ending on May 6, 2010. We received no comments by that date. Therefore we are removing our prohibition on the importation of these products from the Czech Republic and Sweden, into the United States. Specifically:

• We are no longer requiring that processed poultry products from the Czech Republic and Sweden be accompanied by a Veterinary Service import permit and government certification confirming that the products have been treated according to APHIS requirements;

• We are allowing unprocessed poultry products from Sweden to enter the United States in passenger luggage; however, because APHIS has not evaluated the virulent Newcastle disease status of the Czech Republic, unprocessed poultry products remain ineligible for entry into the United Stated in passenger luggage from that country; and

• We are removing restrictions regarding the regions of the Czech Republic and Sweden from which processed poultry products may originate in order to be allowed entry into the United States in passenger luggage.

However, live birds from the Czech Republic and Sweden are still subject to inspection at ports of entry and the post-importation quarantines set forth in 9 CFR part 93, unless granted an exemption by the Administrator or destined for diagnostic purposes and accompanied by a limited permit.

Authority: 7 U.S.C. 450, 7701-7772, 7781-7786, and 8301-8317; 21 U.S.C. 136 and 136a; 31 U.S.C. 9701; 7 CFR 2.22, 2.80, and 371.4.

Done in Washington, DC, this 4th day of November 2010.
Kevin Shea,
Acting Administrator, Animal and Plant Health Inspection Service.

[FR Doc. 2010-28351 Filed 11-9-10; 8:45 am]

BILLING CODE 3410-34-P